DEPARTMENT OF COMMERCE

International Trade Administration

[A-351-806]

Notice of Extension of Final Results of the 2003-2004 Administrative Review of Silicon Metal from Brazil

AGENCY: Import Administration, International Trade Administration, Department of Commerce.

EFFECTIVE DATE: November 30, 2005.

FOR FURTHER INFORMATION CONTACT: Maisha Cryor, AD/CVD Operations, Office 4, Import Administration, International Trade Administration, U.S. Department of Commerce, 14th Street and Constitution Avenue, NW., Washington DC 20230; telephone: (202) 482-5831.

SUPPLEMENTARY INFORMATION:

Background

On August 8, 2005, the Department of Commerce (the Department) published the preliminary results of this administrative review of silicon metal from Brazil. See Silicon Metal From Brazil: Preliminary Results of Antidumping Duty Administrative Review, 70 FR 45665 (August 8, 2005) (“Preliminary Results”). In the Preliminary Results we stated that we would make our final determination for the antidumping duty review no later than 120 days after the date of publication of the preliminary results (i.e., December 6, 2005).

Extension of Time Limit for Final Results

The Department is extending the time limit for the final results of the administrative review of the antidumping duty order on silicon metal from Brazil. This review covers the period July 1, 2003, through June 30, 2004.

Section 751(a)(3)(A) of the Act states that if it is not practicable to complete the review within the time specified, the administering authority may extend the 120-day period, following the date of publication of the preliminary results, to issue its final results by an additional 60 days. Completion of the final results within the 120-day period is not practicable due to a delay in the schedule for submission of interested party arguments and given the number and complexity of issues raised in this review segment, including issues regarding depreciation and financial expenses.

Therefore, in accordance with section 751(a)(3)(A) of the Act, the Department is extending the time period for issuing the final results of review by an additional sixty days until no later than February 4, 2006.

Dated: November 23, 2005.
Stephen J. Claeys,
Deputy Assistant Secretary for Import Administration.

[FR Doc. E5-6713 Filed 11-29-05; 8:45 am]

BILLING CODE 3510-DS-S